DEPARTMENT OF HEALTH AND HUMAN SERVICES

Centers for Disease Control and Prevention

[30Day-22-1244]

Agency Forms Undergoing Paperwork Reduction Act Review

In accordance with the Paperwork Reduction Act of 1995, the Centers for Disease Control and Prevention (CDC) has submitted the information collection request titled Assessment of Occupational Injury among Fire Fighters Using a Follow-back Survey to the Office of Management and Budget (OMB) for review and approval. CDC previously published a “Proposed Data Collection Submitted for Public Comment and Recommendations” notice on July 19, 2021 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Assessment of Occupational Injury among Fire Fighters Using a Follow-back Survey (OMB Control No. 0920-1244, Exp. 10/31/2021)—Extension—National Institute for Occupational Safety and Health (NIOSH) Centers for Disease Control and Prevention (CDC).

Background and Brief Description

Studies have reported that firefighters have high rates of non-fatal injuries and illnesses as compared to the general worker population. As firefighters undertake many critical public safety activities and are tasked with protecting the safety and health of the public, it follows that understanding and preventing injuries and exposures among firefighters will have a benefit reaching beyond the workers to the general public.

As mandated in the Occupational Safety and Health Act of 1970 (Pub. L. 91-596), the mission of NIOSH is to conduct research and investigations on occupational safety and health. Related to this mission, the purpose of this project is to conduct research that will provide a detailed description of non-fatal occupational injuries and exposures incurred by firefighters. This information will offer detailed insight into events that lead to the largest number of nonfatal injuries and exposures among firefighters.

The project will use two related data sources. The first source is data abstracted from medical records of firefighters treated in a nationally stratified sample of emergency departments. These data are routinely collected through the occupational supplement to the National Electronic Injury Surveillance System (NEISS-Work). The second data source, for which NIOSH is seeking an extension of OMB approval for one additional year, is responses to telephone interview surveys of the injured and exposed firefighters identified within NEISS-Work.

The proposed one-year Extension of the telephone interview surveys will supplement NEISS-Work data with a description of firefighter injuries and exposures, including worker characteristics, injury types, injury circumstances, injury outcomes, and use of personal protective equipment for firefighters who opt to participate.

Previous reports describing occupational injuries and exposures to firefighters provide limited details on specific regions or sub-segments of the population. As compared to these earlier studies, the scope of the telephone interview data is broader, as it includes sampled cases nationwide and has no limitations regarding type of employment (i.e., volunteer versus career). Results from the telephone interviews will be analyzed and reported as a case series.

The sample size for the telephone interview survey is estimated to be 35 firefighters annually for the proposed one-year extension. This is based on the current survey completion rate of 10 to 11%. While this completion rate is lower than originally expected, the project team still expects to gain valuable insight into injuries and exposures that firefighters incur. Each telephone interview will take approximately 30 minutes to complete, resulting in an annualized burden estimate of 18 hours. Using the routine NEISS-Work data, an analysis of firefighters will be performed to determine if any differences can be identified between the telephone interview responder and non-responder groups.

The Division of Safety Research (DSR) within NIOSH is conducting this project. DSR has a strong interest in improving surveillance of firefighter injuries and exposures to provide the information necessary for effectively targeting and implementing prevention efforts and, consequently, reducing occupational injuries and exposures to firefighters. The Consumer Product Safety Commission (CPSC) continues to contribute to this project, as they are responsible for coordinating the collection of all NEISS-Work data and for overseeing the collection of all telephone interview data.

CDC requests approval for an estimated 18 annual burden hours with this Extension. There is no cost to respondents other than their time.

Estimated Annualized Burden Hours
Type of respondents | Form name | Number of respondents | Number of responses per respondent | Average burden per response (in hours)
Firefighters | Follow-back survey | 35 | 1 | 30/60

Jeffrey M. Zirger,
Lead, Information Collection Review Office, Office of Scientific Integrity, Office of Science, Centers for Disease Control and Prevention.

[FR Doc. 2021-22177 Filed 10-12-21; 8:45 am]

BILLING CODE 4163-18-P